DEPARTMENT OF TRANSPORTATION

Federal Aviation Administration

RTCA Special Committee 199: Airport Security Access Control Systems

AGENCY: Federal Aviation Administration (FAA), DOT.

ACTION: Notice of RTCA Special Committee 199 meeting.

SUMMARY: The FAA is issuing this notice to advise the public of a meeting of RTCA Special Committee 199: Airport Security Access Control Systems.

DATES: The meeting will be held on July 10, 2001 from 1-5 pm.

ADDRESSES: The meeting will be held at RTCA Headquarters, 1140 Connecticut Avenue, NW., Suite 1020, Washington, DC, 20036.

FOR FURTHER INFORMATION CONTACT: RTCA Secretariat, 1140 Connecticut Avenue, NW., Washington, DC, 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given for a Special Committee 199 meeting. Note: Special Committee 199 is tasked to revise RTCA DO-230, Standards for Airport Security Access Control Systems. In performing its duties, Special Committee 199 should: (1) Give special consideration to the new Federal Aviation Regulation (FAR) Parts 107 and 108. These FARs are scheduled for release in the near future. (2) Consider the draft document entitled “Requirements Security Guidelines for Airport Planning, Design and Construction.” An industry group prepared this document during the last two years. (3) Consider all technical developments and advances made since the publication of DO-230, (4) Include consideration of operational and implementation experience since the publication of DO-230. The agenda will include:

July 10

• Opening Session (Welcome and Introductory Remarks, Agenda Overview, RTCA Functional Overview, Previous Committee History)

• Current Committee Scope, Terms of Reference Overview, Presentation, Discussion, Recommendations

• Organization of work, Assign Tasks and Workgroups, Presentation, Discussion, Recommendations, Assignment of Responsibilities

• Closing Session (Other Business, Establish Agenda for Next Meeting, Date and Place of Next Meeting)

Attendance is open to interested public but limited to space availability. With the approval of the chairmen, members of the public may present oral statements at the meeting. Persons wishing to present statements or obtain information should contact the person listed in the FOR FURTHER INFORMATION CONTACT section. Members of the public may present a written statement to the committee at any time.

Issued in Washington, DC, on June 13, 2001.
Janice L. Peters,
FAA Special Assistant, RTCA Advisory Committee.

[FR Doc. 01-15490 Filed 6-19-01; 8:45 am]

BILLING CODE 4910-13-M